ENVIRONMENTAL PROTECTION AGENCY

[OPP-00654; FRL-6553-4]

Pesticides; Guidance for Pesticide Registrants on Disposal Instructions on Residential/Household Use Pesticide Product Labels

AGENCY: Environmental Protection Agency (EPA).

ACTION: Notice of availability.

SUMMARY: The Agency seeks public comment on a draft Pesticide Registration (PR) Notice entitled “Disposal Instructions on Residential/Household Use Product Labels.” This draft notice would provide guidance to registrants concerning disposal instructions for residential/household products and how to determine what is a residential/household product. The Agency has discovered that the existing instructions may conflict with the laws, regulations, or practices of some states and localities which tell consumers to direct these materials away from their landfills and instead to their local household hazardous waste (HHW) management facilities or programs. Through the revised instructions in the PR Notice, EPA addresses this issue.

DATES: Comments, identified by docket control number OPP-00654, must be received on or before August 14, 2000.

ADDRESSES: Comments may be submitted by mail, electronically, or in person. Please follow the detailed instructions for each method as provided in Unit I.C. of the “SUPPLEMENTARY INFORMATION.” To ensure proper receipt by EPA, it is imperative that you identify docket control number OPP-00654 in the subject line on the first page of your response.

FOR FURTHER INFORMATION CONTACT: Amy Breedlove (7506C), Environmental Protection Agency, Ariel Rios Bldg., 1200 Pennsylvania Ave., NW., Washington, DC 20460; telephone number: (703) 308-9069; fax number: (703) 305-5884; e-mail address: breedlove.amy@epa.gov.

SUPPLEMENTARY INFORMATION:

I. General Information

A. Does this Action Apply to Me?

This action is directed to the public in general. Although this action may be of particular interest to those persons who are required to register, regulate, or label pesticides, or who manage or regulate household hazardous waste facilities or collection events, the Agency has not attempted to describe all the specific entities that may be affected by this action. If you have any questions regarding the information in this notice, consult the person listed under “FOR FURTHER INFORMATION CONTACT.”

B. How Can I Get Additional Information, Including Copies of this Document and Other Related Documents?

1. Electronically. You may obtain electronic copies of this document and the PR Notice from the Office of Pesticide Programs' Home Page at http://www.epa.gov/pesticides. You can also go directly to the listings from the EPA Internet Home Page at http://www.epa.gov. To access this document, on the Home Page select “Laws and Regulations” and then look up the entry for this document under the “Federal Register—Environmental Documents.” You can also go directly to the Federal Register listings at http://www.epa.gov/fedrgstr.

2. Fax-on-demand. You may request a faxed copy of the draft PR Notice entitled “Disposal Instructions on Residential/Household Use Pesticide Product Labels,” by using a faxphone to call (202) 401-0527 and selecting item 6127. You may also follow the automated menu.

3. In person. The Agency has established an official record for this action under docket control number OPP-00654. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-00654 in the subject line on the first page of your response.

1. By mail. Submit your comments to: Public Information and Records Integrity Branch (PIRIB), Information Resources and Services Division (7502C), Office of Pesticide Programs (OPP), Environmental Protection Agency, Ariel Rios Bldg., 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in Wordperfect 6, Suite 8, or ASCII file format. All comments in electronic form must be identified by docket control number OPP-00654. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under “FOR FURTHER INFORMATION CONTACT.”

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Background

A. What Guidance Does this PR Notice Provide?

Since the early 1980's, the Agency has directed that products intended for residential or household-use-only contain the following, or a similar, disposal instruction: “Securely wrap original container in several layers of newspaper and discard in trash.” Some registered disinfectant product disposal instructions were allowed to say instead, “pour down the drain with plenty of water.”

In 1996, EPA began the Consumer Labeling Initiative (CLI) to foster pollution prevention, empower consumer choice, and improve consumer understanding of safe use, environmental, and health information on household consumer product labels, including indoor insecticides, outdoor pesticides, and household hard surface cleaners. To achieve this goal, the CLI conducted consumer research, with its project Partners, to identify how to provide consumers with clear information on product labels.

During Phase I of the CLI research, the Agency discovered that states and localities often direct the disposal of residential/household use pesticides to their local household hazardous waste (HHW) management facilities or programs rather than to landfills. While some HHW management programs are based on State laws, more frequently municipal codes, local practices and educational programs have been developed that tell consumers what to do with these materials. Understandably, the differences in disposal instructions may confuse consumers, complicate local educational efforts, and interfere with state and local responsibilities. Consensus could not be reached by the CLI partners on revised disposal language, so this issue was removed from the CLI project and is being addressed through this PR Notice process instead.

In this PR Notice, the Agency is proposing instructions that direct consumers to call their local solid waste agency or a toll-free phone number for disposal instructions for partly filled containers.

B. What Questions/Issues Should You Consider?

1. Toll-free numbers. (a) When considering issues related to label language, it may be relevant to remember the average size of consumer product labels and the other labeling requirements that already exist. Is there value in including a toll-free number (or an optional web site reference) in the disposal instruction?

(b) The Agency has proposed the 1-800-CLEANUP number for consumer information. Is this an appropriate number? Are there others that should be considered or allowed?

2. Providing a reason for correct disposal. Should the label provide information telling consumers why they should follow the instructions? For example, the Agency could encourage the use of statements concerning the potential for water pollution or hazards to people or wildlife.

3. Additional statements. Is a statement needed telling people not to dispose of aerosol products in home trash compacters?

4. Instructions for partly filled containers. (a) EPA has proposed to use “solid waste agency”as the preferred term for consumers to identify their local authority. Should the Agency also refer to public health, environmental, or recycling agencies in order to provide consumers with other options?

(b) Should the instructions say “call your local solid waste agency . . .” and not make any reference to putting products in the trash at all? What instructions should be included to address the situation where there may be no local source of information?

(c) The Agency proposes instructions that are generic for all products, regardless of risk profile. If such instructions were, instead, based on an Agency evaluation of risk of individual products, how would such instructions differ among products of significantly different risk? If a risk assessment approach were used, what data or information would the Agency need, and what level of risk assessment should be used to arrive at a risk-based disposal instruction?

(d) Should products with certain physical characteristics, such as ant or roach baits, flea collars, or traps containing pheromones, be excluded automatically from the requirement to “call your local solid waste agency”? If so, what types of products should be excluded?

5. Rinsing and recycling of containers. (a) Many ready-to-use products are in containers that can't be opened, so rinsing the container or removing the sprayer head is not feasible. Furthermore, recycling of pesticide containers, where it occurs, is very much a market-driven activity. For these reasons, should the Agency simply direct consumers to call their local authorities for recycling instructions?

(b) Is the phrase “Do not rinse, unless required for recycling” useful?

C. Why is a PR Notice Guidance and Not a Rule?

The draft PR Notice discussed in this notice is intended to provide guidance to EPA personnel and decision-makers, and to the public. As a guidance document and not a rule, this policy is not binding on either EPA or any outside parties. Although the guidance document provides a starting point for EPA decisions, EPA will depart from this policy where the facts or circumstances warrant. In such cases, EPA will explain why a different course was taken. Similarly, outside parties remain free to assert that this policy is not appropriate for a specific pesticide or that the specific circumstances demonstrate that this policy should be modified.

EPA has stated in this notice that it will make available revised guidance after consideration of public comment. Public comment is not being solicited for the purpose of converting this guidance document into a binding rule. EPA will not be codifying this policy in the Code of Federal Regulations. EPA is soliciting public comment so that it can make fully informed decisions regarding the content of this guidance.

The “revised” guidance will not be an unalterable document. Once a “revised” guidance document is issued, EPA will continue to treat it as guidance, not a rule. Accordingly, on a case-by-case basis EPA will decide whether it is appropriate to depart from the guidance or to modify the overall approach in the guidance. In the course of commenting on this guidance document, EPA would welcome comments that specifically address how the guidance document can be structured so that it provides meaningful guidance without imposing binding requirements.

List of Subjects

Environmental protection, Administrative practice and procedure, Pesticides and pest.

Dated: June 2, 2000.
Marcia E. Mulkey,
Director, Office of Pesticide Programs.

[FR Doc. 00-14870 Filed 6-13-00; 8:45 am]

BILLING CODE 6560-50-F